DEPARTMENT OF TRANSPORTATION

Office of the Secretary

Notice of Establishment of a Commission

AGENCY: Office of the Secretary, DOT.

SUMMARY: This notice informs the public of the establishment of the National Commission To Ensure Consumer Information and Choice in the Airline Industry, in accordance with Section 228 of the Wendell H. Ford Aviation Investment and Reform Act for the 21st Century (AIR-21), Pub. L. 106-181.

FOR FURTHER INFORMATION CONTACT: Richard J. Fahy, Jr., Executive Director, at 1110 Vermont Avenue, NW., Suite 1160, Washington, DC 20005.

SUPPLEMENTARY INFORMATION:

Background

AIR-21 authorized the Commission to study: (a) Whether the financial condition of travel agents is declining and, if so, the effect of such a decline on consumers and, (b) whether there are impediments to information regarding the services and products offered by the airline industry, and, if so, the effects of those impediments on travel agents, Internet-based distributors, and consumers. A special focus of the study is the condition of smaller travel agencies (less than $1 million in annual revenues). Based on the results of its study, the Commission is to make recommendations to improve the condition of travel agents, especially smaller travel agents, and to enhance consumer access to travel information. The Commission's report is due November 16, 2002.

On May 16, 2002, U.S. Secretary of Transportation Norman Y. Mineta announced the establishment of this Commission and the selection of David L. Winstead, a Washington attorney and a former Maryland Secretary of Transportation, as the chair. Mr. Winstead is a former chairman of the Maryland Aviation Commission, and was President of the American Association of State Highway and Transportation Officials (AASHTO) in 1998. The Secretary also named Patrick V. Murphy, Jr., and Maryles Casto to serve on the commission. Mr. Murphy is a former Deputy Assistant Secretary for Aviation and International Affairs at the U.S. Department of Transportation, and is currently a principal at Gerchick-Murphy Associates, a Washington consulting firm. He currently represents United Airlines, JetBlue, and United Parcel Service. Ms. Casto is President and CEO of Casto Travel, Inc. of Santa Clara, California, the largest travel agency in the Silicon Valley.

Members of Congress previously appointed the following commissioners:

• Mr. Ted R. Lawson, President and CEO of National Travel, Inc. in Charleston, West Virginia, appointed by Senate Majority Leader Tom Daschle.

• Dr. Ann B. Mitchell, President and Owner of Carlson Wagonlit/Travel First, Inc. in Starkville, Mississippi, appointed by Senate Minority Leader Trent Lott.

• Ms. Joyce Rogge, Senior Vice President-Marketing at Southwest Airlines in Dallas, appointed by Senator Lott.

• Mr. Paul M. Ruden, Senior Vice President for Legal and Industry Affairs for the American Society of Travel Agents in Washington, appointed by House Speaker Dennis Hastert.

• Mr. Gerald J. Roper, President and CEO of the Chicagoland Chamber of Commerce, appointed by Speaker Hastert.

• Mr. Thomas P. Dunne, Sr., Chairman, CEO and President of the construction company Fred Weber, Inc., and a professional engineer in Maryland Heights, Missouri, appointed by House Minority Leader Richard Gephardt.

The Commission will hold its first public hearing on Wednesday, June 12, starting promptly at 10:00 AM in the Hemisphere—A Conference Room, Ronald Building at 1300 Pennsylvania Avenue, NW., Washington, DC. Other hearings are planned for June 26 in Chicago, and July 11 in San Francisco. Public comments may be submitted to the Commission at the Commission's offices.

The Commission's offices are located at 1110 Vermont Avenue NW., Suite 1160, Washington, DC 20005. The Executive Director of the Commission is Mr. Richard J. Fahy, Jr. Mr. Fahy is a graduate of Yale Law School and is a former Associate General Counsel with American Airlines. Recently, he served as Senior Vice President and General Counsel of Vacation.Com, Inc., the largest travel agency industry consortium with over 9000 members.

Dated: June 4, 2002.
Douglas V. Leister,
Executive Assistant.

[FR Doc. 02-14518 Filed 6-7-02; 8:45 am]

BILLING CODE 4910-62-P